DEPARTMENT OF COMMERCE

National Oceanic and Atmospheric Administration

RIN 0648-XG303

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a 3-day meeting in July to discuss the items contained in the agenda in the SUPPLEMENTARY INFORMATION.

DATES: The meetings will be held from Tuesday, July 17, 2018, at 9 a.m., through Thursday, July 19, 2018, at 5 p.m.

ADDRESSES: The meetings will be held at the Courtyard Marriott Isla Verde Resort, 7012 Boca de Cangrejos, Avenida Isla Verde, Carolina, Puerto Rico 00979.

FOR FURTHER INFORMATION CONTACT: Caribbean Fishery Management Council, 270 Muñoz Rivera Avenue, Suite 401, San Juan, Puerto Rico 00918-1903, telephone: (787) 766-5926.

SUPPLEMENTARY INFORMATION:

—Call to Order

—Adoption of Agenda

—Overview

1. Review outcomes from the May 29, 2018 SSC meeting

2. Review and finalize U.S. Virgin Islands year sequence

3. Review text of Acceptable Biological Catch Control Rule

4. Address outstanding issues for Actions 2 and 3 in the Island Based Fishery Management Plans, including:

a. Clarify rationale for certain recommended species groupings under Action 2

b. Revisit terminal year for Puerto Rico commercial species new to management

c. Other issues

—Recommendations to the Caribbean Fishery Management Council for research priorities

—Other Business

The order of business may be adjusted as necessary to accommodate the completion of agenda items. The meeting will begin on July 17, 2018 at 9 a.m. Other than the start time, interested parties should be aware that discussions may start earlier or later than indicated. In addition, the meeting may be extended from, or completed prior to the date established in this notice

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: June 20, 2018.
Tracey L. Thompson,
Acting Deputy Director, Office of Sustainable Fisheries, National Marine Fisheries Service.

[FR Doc. 2018-13534 Filed 6-22-18; 8:45 am]

BILLING CODE 3510-22-P